DEPARTMENT OF THE INTERIOR

National Park Service

[NPS-WASO-NAGPRA-13041; PPWOCRADN0-PCU00RP14.R50000]

Notice of Intent to Repatriate Cultural Items: The Field Museum, Chicago, IL

AGENCY: National Park Service, Interior.

ACTION: Notice.

SUMMARY: The Field Museum, in consultation with the appropriate Indian tribes or Native Hawaiian organizations, has determined that the cultural items listed in this notice meet the definition of unassociated funerary objects. Lineal descendants or representatives of any Indian tribe or Native Hawaiian organization not identified in this notice that wish to claim these cultural items should submit a written request to the Field Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Field Museum at the address in this notice by July 8, 2013.

ADDRESSES: Helen Robbins, Repatriation Director, Field Museum, 1400 South Lake Shore Drive, Chicago, IL 60605, telephone (312) 665-7317, email hrobbins@fieldmuseum.org.

SUPPLEMENTARY INFORMATION: Notice is here given in accordance with the Native American Graves Protection and Repatriation Act (NAGPRA), 25 U.S.C. 3005, of the intent to repatriate cultural items in the possession of the Field Museum, Chicago, IL, that meet the definition of unassociated funerary objects, under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1930, three cultural items were removed from the Queen Creek Ruin, also known as Sonoqui Pueblo, Pozos de Sonoqui, or Sun Temple Ruin (Sacaton:2:6 (GP)) in Maricopa County, AZ, during legally authorized excavations conducted by the Gila Pueblo Archaeological Foundation. The Field Museum acquired these items in 1940 as the result of an exchange with the Gila Pueblo Archaeological Foundation. The three unassociated funerary objects are two ceramic bowls and one ceramic scoop. Records indicate that the items were removed from three separate grave contexts, but the human remains are not present in Field Museum collections.

Queen Creek Ruin was a large habitation site that included trash mounds, burials, pithouses, canals, adobe compounds, and a ballcourt. Architectural features, mortuary practices, ceramic types, and other items of material culture at this ruin are consistent with the Hohokam archaeological tradition and indicate occupation between approximately A.D. 950 and 1450. Continuities of mortuary practices, ethnographic material, and technology indicate affiliation of Hohokam settlements with present-day O'odham (Piman) and Puebloan cultures.

On July 27, 2012, representatives of the Gila River Indian Community of the Gila River Indian Reservation, Arizona, submitted an August 2000 cultural affiliation study that addresses continuities between the Hohokam and the O'odham tribes. Furthermore, oral traditions that are documented for the Ak Chin Indian Community of the Maricopa (Ak Chin) Indian Reservation, Arizona; Gila River Indian Community of the Gila River Indian Reservation, Arizona; Hopi Tribe of Arizona; Salt River Pima-Maricopa Indian Community of the Salt River Reservation, Arizona; and the Tohono O'odham Nation of Arizona support affiliation with Hohokam sites in central Arizona. The aforementioned tribes have designated the Gila River Indian Community to take the lead on repatriations from the Queen Creek Site.

Determinations Made by the Field Museum

Officials at the Field Museum have determined that:

• Pursuant to 25 U.S.C. 3001(3)(B), the three cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; and the Tohono O'odham Nation of Arizona.

Additional Requestors and Disposition

Lineal descendants or representatives of any Indian tribe or Native Hawaiian organization not identified in this notice that wish to claim these cultural items should submit a written request with information in support of the claim to Helen Robbins, Repatriation Director, Field Museum, 1400 South Lake Shore Drive, Chicago, IL 60605, telephone (312) 665-7317, email hrobbins@fieldmuseum.org, by July 8, 2013. After that date, if no additional claimants have come forward, transfer of control of the unassociated funerary objects to the Gila River Indian Community of the Gila River Indian Reservation may proceed.

The Field Museum is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; and the Tohono O'odham Nation of Arizona that this notice has been published.

Dated: May 8, 2013.
Sherry Hutt,
Manager, National NAGPRA Program.

[FR Doc. 2013-13463 Filed 6-5-13; 8:45 am]

BILLING CODE 4312-50-P